DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before August 29, 2011. Address written comments to Statutory Import Programs Staff, Room 3720, U.S. Department of Commerce, Washington, DC 20230. Applications may be examined between 8:30 a.m. and 5 p.m. at the U.S. Department of Commerce in Room 3720.

Docket Number: 11-046. Applicant: University of California Los Angeles, 595 Charles E. Young Drive East, 3806 Geology Building, Los Angeles, CA 90095. Instrument: Luminescence Reader. Manufacturer: Technical University of Denmark, Riso National Laboratory, Denmark. Intended Use: The instrument will be used to study the age of rock and sediment samples using thermoluminescence, optically stimulated luminescence and infrared luminescence. Justification for Duty-Free Entry: No instruments of the same general category are being manufactured in the United States. Application accepted by Commissioner of Customs: July 18, 2011.

Docket Number: 11-049. Applicant: University of Missouri, Electron Microscopy Core Facility, Veterinary Medicine Building, 1600 East Rollins, Columbia, MO 65211. Instrument: Electron Microscope. Manufacturer: FEI Company, Czech Republic. Intended Use: The instrument will be used to study natural, synthetic and biological materials, to determine their atomic and crystalline structures, 3-dimensional organization at the nano level, elemental composition and organization. Justification for Duty-Free Entry: No instruments of the same general category are being manufactured in the United States. Application accepted by Commissioner of Customs: July 27, 2011.

Docket Number: 11-051. Applicant: DOD Uniformed Services University of the Health Sciences, 4301 Jones Bridge Road, Bethesda, MD 20814-4799. Instrument: Transmission Electron Microscope. Manufacturer: JEOL, Japan. Intended Use: The instrument will be used to obtain extremely high-magnification images of biological samples, such as cells, tissues, bacteria and protein complexes, to study the characterization of injury and wound response and the effects of pharmacological agents on control and diseased tissues. Justification for Duty-Free Entry: No instruments of the same general category are being manufactured in the United States. Application accepted by Commissioner of Customs: July 27, 2011.

Dated: August 3, 2011.
Gregory W. Campbell,
Director, Subsidies Enforcement Office, Office of Policy, Import Administration.

[FR Doc. 2011-20207 Filed 8-8-11; 8:45 am]

BILLING CODE 3510-DS-P